DEPARTMENT OF HOMELAND SECURITY

Federal Emergency Management Agency

44 CFR Part 67

[Docket No. FEMA-D-7594]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
ALABAMA
Cullman County
Mud Creek | At Interstate 31 | None | *533 | Cullman County (Unincorporated Areas), City of Hanceville.
| Approximately 800 feet upstream of State Route 91 | None | *537
Bavar Creek | Approximately 2,400 feet downstream of County Route 37 | None | *567 | Town of Good Hope.
| At Section Line Road | None | *692
Ryan Creek | Approximately 1,000 feet downstream of County Road 38 | None | *643 | Cullman County (Unincorporated Areas), City of Cullman.
| Approximately 0.4 mile upstream of 16th Street Southeast | None | *713
Wolf Creek | At the confluence with Ryan Creek | None | *676 | City of Cullman.
| Approximately 0.3 mile upstream of Briarwood Drive Southeast | None | *691
Cullman County (Unincorporated Areas)
Maps available for inspection at the Cullman County Commission, 500 Second Avenue SW., Room 202, Cullman, Alabama.
Send comments to Mr. Norman Tucker, Chairman of the Cullman County Board of Commissioners, 500 Second Avenue SW., Room 202, Cullman, Alabama 35055.
City of Cullman
Maps available for inspection at the City of Cullman Building Department, 201 2nd Avenue, Cullman, Alabama.
Send comments to The Honorable Donald E. Green, Mayor of the City of Cullman, P.O. Box 278, Cullman, Alabama 35056-0278.
City of Good Hope
Maps available for inspection at the Good Hope City Hall, 134 Town Hall Drive, Cullman, Alabama.
Send comments to The Honorable Gordon Dunagan, Mayor of the City of Good Hope, 134 Town Hall Drive, Cullman, Alabama 35057.
City of Hanceville
Maps available for inspection at the Hanceville City Hall, 112 Main Street SE., Hanceville, Alabama.
Send comments to The Honorable Bobby Brown, Mayor of the City of Hanceville, 112 Main Street SE., Hanceville, Alabama 35077.
FLORIDA
Flagler County
Big Mulberry Branch | Approximately 1,620 feet downstream of Palm Harbor Parkway | None | *7 | City of Palm Coast.
| Approximately 3,500 feet upstream of Belle Terre Parkway | None | *24
Black Branch | At the confluence with Haw Creek | None | *12 | Flagler County (Unincorporated Areas), City of Bunnell.
| Approximately 0.75 mile upstream of Old Haw Creek Road | *12 | *16
Black Point Swamp | At the confluence with Black Branch | None | *12 | Flagler County (Unincorporated Areas).
| At the upstream side of State Routes 20/100 | None | *14
Wadsworth/Korona Canal | Approximately 75 feet downstream of Old Kings Road | None | *12 | Flagler County (Unincorporated Areas).
| At the upstream side of County Road 325 | None | *27
Bull Creek | At the confluence with Crescent Lake | None | *7 | Flagler County (Unincorporated Areas).
| At the upstream side of State Route 100 | None | *19
Bull Creek Tributary | At the confluence with Bull Creek | None | *11 | Flagler County (Unincorporated Areas).
| Approximately 20 feet upstream of County Route 305 | None | *24
Bulow Creek | Approximately 1.3 miles upstream of Old Kings Road | *9 | *8 | Flagler County (Unincorporated Areas).
| At the upstream side of Old Kings Road | *18 | *21
Bulow Creek Tributary | Approximately 500 feet downstream of the confluence with Bulow Creek | *12 | *13 | Flagler County (Unincorporated Areas).
| Approximately 2,000 feet downstream of the confluence with Bulow Creek | *17 | *18
Haw Creek | At the confluence with Crescent Lake | None | *7 | Flagler County (Unincorporated Areas).
| Approximately 3.48 miles upstream of County Route 305 | None | *12
Graham Swamp | At the confluence with the Intracoastal Waterway | None | *6 | Flagler County (Unincorporated Areas), City of Palm Coast.
| Approximately 3.3 miles downstream of East Highway | None | *12
Parker Canal | At the confluence with Black Branch | None | *12 | Flagler County (Unincorporated Areas).
| At the confluence with Sweetwater Branch | None | *23
Atlantic Ocean | Approximately 475 feet east of the intersection of Deerwood Street and North Ocean Shore Boulevard | *13 | *16 | Flagler County (Unincorporated Areas), Town of Beverly Beach, City of Flagler Beach, Town of Marineland, City of Palm Coast.
| Approximately 100 feet south of the intersection of North Shore Boulevard and Camino Del Ray Parkway | *6 | *7
Town of Beverly Beach
Maps available for inspection at the Beverly Beach Town Hall, 2770 North Oceanshore Boulevard, Beverly Beach, Florida.
Send comments to The Honorable Stephen M. Emmett, Mayor of the Town of Beverly Beach, 2770 North Ocean Shore Boulevard, Beverly Beach, Florida 32136.
City of Bunnell
Maps available for inspection at the Bunnell City Hall, 200 South Church Street, Bunnell, Florida.
Send comments to Mr. Lyndon Bonner, Bunnell City Manager, City Hall, 200 South Church Street, Bunnell, Florida 32110.
City of Flagler Beach
Maps available for inspection at the Flagler Beach City Hall, 105 South 2nd Street, Flagler Beach, Florida.
Send comments to The Honorable Bruce Jones, Mayor of the City of Flagler Beach, 105 South 2nd Street, Flagler Beach, Florida 32137.
Flagler County (Unincorporated Areas)
Maps available for inspection at the Flagler County Planning and Zoning Department, 1200 East Moody Boulevard, Suite 2, Bunnell, Florida.
Send comments to Mr. David Haas, Flagler County Administrator, 1200 East Moody Boulevard, Suite 1, Bunnell, Florida 32110.
Town of Marineland
Maps available for inspection at the Marineland Town Office, 9507 Oceanshore Boulevard, St. Augustine, Florida.
Send comments to The Honorable James Netherton, Mayor of the Town of Marineland, 9507 Oceanshore Boulevard, St. Augustine, Florida 32080.
City of Palm Coast
Maps available for inspection at the Palm Coast City Hall, 2 Commerce Boulevard, Palm Coast, Florida.
Send comments to The Honorable James V. Canfield, Mayor of the City of Palm Coast, City Hall, 2 Commerce Boulevard, Palm Coast, Florida 32164.
NEW JERSEY
Union County
Rahway River | At a point immediately upstream of Lawrence Street | *10 | *9 | City of Rahway, Townships of Clark, Cranford, Springfield, Union, Winfield, Borough of Kenilworth.
| Approximately 400 feet downstream of Springfield Avenue | *90 | *91
Black Brook | At the confluence with Rahway River | *74 | *75 | Borough of Kenilworth, Township of Union.
| Approximately 180 feet downstream of Springfield Road | *74 | *75
Branch 10-30-1 | At the confluence with Drainage Ditch | *71 | *75 | Borough of Kenilworth.
| Approximately 350 feet upstream of Lafayette Place | *74 | *75
College Branch | At the confluence with Rahway River | *70 | *72 | Township of Cranford.
| At a point immediately upstream of Springfield Avenue | *70 | *72
Drainage Ditch | At the confluence with Rahway River | *71 | *73 | Borough of Kenilworth, Township of Springfield.
| At the confluence of Branch 10-30-1 | *71 | *75
Gallows Hill Road Branch | At the confluence with Rahway River | *69 | *71 | Township of Cranford.
| Approximately 350 feet upstream of Pittsfield Street | *70 | *71
Garwood Brook | At the confluence with Rahway River | *68 | *70 | Township of Cranford.
| Approximately 250 feet upstream of West Holly Street | *69 | *70
Nomahegan Brook | At the confluence with Rahway River | *73 | *74 | Townships of Cranford and Springfield, Town of Westfield.
| Approximately 580 feet downstream of Springfield Avenue | *73 | *74
Robinsons Branch | At the confluence with Rahway River | *15 | *14 | City of Rahway, Town of Westfield, Township of Clark.
| At the confluence of Robinsons Branch | *51 | *50
South Branch | At the confluence with Rahway River | *11 | *9 | City of Rahway.
| Approximately 100 feet upstream of East Inman Avenue | *11 | *10
Stream 10-30 | At the confluence with Drainage Ditch | *71 | *74 | Borough of Kenilworth.
| Approximately 100 feet downstream of Willshire Drive | *73 | *74
Vauxhall Branch | At the confluence with Rahway River | *90 | *91 | Township of Union.
| At Liberty Avenue | *90 | *91
Cedar Brook | At Terrill Road | None | *131 | Borough of Fanwood.
| A point immediately upstream of Willow Avenue | None | *141
Vauxhall Sub Branch | At the confluence with Vauxhall Branch | *90 | *91 | Township of Union.
| At Interstate 78 | *90 | *91
West Branch | At the confluence with Elizabeth River | *43 | *42 | Township of Union.
| Approximately 1,400 feet upstream of Garden State Parkway entrance ramp | None | *60
Lightning Brook | At the confluence with Elizabeth River | *56 | *55 | Township of Union.
| Approximately 950 feet downstream of Union Avenue | *56 | *55
Elizabeth River | At Trotters Lane | *27 | *18 | Townships of Union and Hillside.
| Approximately 1,050 feet upstream of Union Avenue | *67 | *68
Trotters Lane Branch | At Morris Avenue | None | *27 | City of Elizabeth.
| Approximately 300 feet downstream of North Avenue | None | *28
Kings Creek | A point immediately upstream of Barnett Street | None | *10 | City of Rahway.
| Approximately 1,000 feet upstream of Lower Road to Rahway | None | *13
East Branch Rahway River | Approximately 450 feet upstream of the confluence with Rahway River | *90 | *91 | Townships of Union and Springfield.
| Approximately 2,800 feet downstream of Vauxhall Road | *90 | *91
Kings Creek | Approximately 715 feet downstream of U.S. Route 9 | *14 | #1 | City of Linden.
| Just downstream of U.S. Route 9 | *16 | #1
Township of Clark
Maps available for inspection at the Clark Township Engineer's Office, Municipal Building, 430 Westfield Avenue, Clark, New Jersey.
Send comments to The Honorable Salvatore Bonaccorso, Mayor of the Township of Clark, Municipal Building, 430 Westfield Avenue, Clark, New Jersey 07066-1590.
Township of Cranford
Maps available for inspection at the Cranford Township Engineer's Office, Municipal Building, 8 Springfield Avenue, Cranford, New Jersey.
Send comments to The Honorable Barbara A. Bilger, Mayor of the Township of Cranford, Municipal Building, 8 Springfield Avenue, Cranford, New Jersey 07016-2199.
City of Elizabeth
Maps available for inspection at the Elizabeth City Engineer's Office, 50 Winfield Scott Plaza, Elizabeth, New Jersey.
Send comments to The Honorable J. Christian Bollwage, Mayor of the City of Elizabeth, City Hall, 50 Winfield Scott Plaza, Elizabeth, New Jersey 07201.
Borough of Fanwood
Maps available for inspection at the Fanwood Borough Engineer's Office, 75 North Martine Avenue, Fanwood, New Jersey.
Send comments to The Honorable Colleen Mahr, Mayor of the Borough of Fanwood, 75 North Martine Avenue, Fanwood, New Jersey 07023-1397.
Township of Hillside
Maps available for inspection at the Hillside Township Engineer's Office, JFK Plaza, Hillside and Liberty Avenue, Hillside, New Jersey.
Send comments to The Honorable Karen McCoy Oliver, Mayor of the Township of Hillside, JFK Plaza, Hillside and Liberty Avenue, Hillside, New Jersey 07205.
Borough of Kenilworth
Maps available for inspection at the Kenilworth Borough Engineer's Office, Municipal Building, 567 Boulevard, Kenilworth, New Jersey.
Send comments to The Honorable Gregg David, Mayor of the Borough of Kenilworth, Municipal Building, 567 Boulevard, Kenilworth, New Jersey 07033-1699.
City of Linden
Maps available for inspection at the Linden City Engineer's Office, Municipal Building, 301 North Wood Avenue, Linden, New Jersey.
Send comments to The Honorable John T. Gregorio, Mayor of the City of Linden, Municipal Building, 301 North Wood Avenue, Linden, New Jersey 07036.
City of Rahway
Maps available for inspection at the Rahway City Engineer's Office, 1 City Hall Plaza, Rahway, New Jersey 07065.
Send comments to The Honorable James J. Kennedy, Mayor of the City of Rahway, 1 City Hall Plaza, Rahway, New Jersey 07065.
Town of Springfield
Maps available for inspection at the Springfield Township Engineer's Office, Municipal Building, 100 Mountain Avenue, Springfield, New Jersey.
Send comments to The Honorable Clara T. Harelik, Mayor of the Township of Springfield, Municipal Building, 100 Mountain Avenue, New Jersey 07081.
Township of Union
Maps available for inspection at the Union Township Engineer's Office, Municipal Building, 1976 Morris Avenue, Union, New Jersey.
Send comments to The Honorable Anthony Terrezza, Mayor of the Township of Union, Municipal Building, 1976 Morris Avenue, Union, New Jersey 07083-3579.
Town of Westfield
Maps available for inspection at the Westfield Town Engineer's Office, Municipal Building, 425 East Broad Street, Westfield, New Jersey.
Send comments to The Honorable Gregory McDermott, Mayor of the Town of Westfield, Municipal Building, 425 East Broad Street, Westfield, New Jersey 07090.
Township of Winfield
Maps available for inspection at the Winfield Township Municipal Building, 12 Gulfstream Avenue, New Jersey.
Send comments to The Honorable Norman Whitehouse, Jr., Mayor of the Township of Winfield, 12 Gulfstream Avenue, Winfield, New Jersey 07036.
PENNSYLVANIA
Lancaster County
Bachman Run | At the confluence with Little Conestoga Creek | •325 | •324 | Township of Manheim.
| Approximately 1,800 feet upstream of Koser Road | None | •364
Tributary No. 1 to Bachman Run | From the confluence with Bachman Run | None | •335 | Township of Manheim.
| Approximately 450 feet upstream of Snyder Road | None | •363
Conoy Creek | Approximately 1,850 feet upstream of State Route 241 | None | •398 | Township of West Donegal.
| Approximately 4,350 feet upstream of State Route 241 | None | •406
Chiques Creek | Approximately 1,350 feet upstream of Kinderhook Road | None | •295 | Townships of Rapho, East Hempfield, West Hempfield, Penn.
| Approximately 600 feet downstream of State Route 72 | None | •438
Cocalico Creek | Approximately 400 feet downstream of Disston View Road | None | •300 | Townships of Warwick, East Cocalico, West Cocalico.
| Approximately 150 feet downstream of Pennsylvania Turnpike | None | •394
Little Cocalico Creek | Approximately 800 feet downstream of Pennsylvania Turnpike | None | •390 | Township of East Cocalico.
| Approximately 200 feet upstream of Pennsylvania Turnpike | None | •390
Little Chiques Creek | Approximately 300 feet downstream of Mount Joy Road | None | •326 | Township of Mount Joy.
| Just downstream of Milton Grove Road | None | •351
Conestoga River | Approximately 10,100 feet upstream of Stehman Road | None | •227 | Borough of Millersville, Townships of Ephrata, Upper Leacock.
| Approximately 3,200 feet upstream of U.S. Route 322 | None | •333
Mill Creek | Approximately 4,500 feet downstream of Park Drive | None | •261 | City of Lancaster, Township of Earl.
| Approximately 450 feet downstream of T-763 | None | •458
Pequea Creek | Approximately 3,700 feet downstream of Rawlinsville Road | None | •279 | Townships of Providence, Leacock, Pequea, East Lampeter, West Lampeter, Paradise.
| Approximately 450 feet downstream of U.S. Route 30 | None | •346
Beaver Creek | Approximately 25 feet downstream of North Church Street | None | •455 | Township of Eden.
| Approximately 250 feet downstream of North Church Street | None | •456
West Branch Octorano Creek | Approximately 3,900 feet downstream of Mount Pleasant Road | None | •497 | Township of Colerain.
| Approximately 3,800 feet downstream of Mount Pleasant Road | None | •497
Lees Creek | Approximately 480 feet downstream of Willow Street | None | •456 | Township of Brecknock.
| Approximately 420 feet downstream of Willow Street | None | •457
Tributary No. 1 to Conestoga River | Just upstream of Barbara Street | None | •281 | Borough of Millersville.
| Approximately 610 feet upstream of Barbara Street | None | •289
Little Conestoga Creek | Approximately 3,050 feet upstream of Millersville Road | None | •278 | Borough of Millersville.
| Approximately 3,350 feet upstream of Millersville Road | None | •278
Township of Brecknock
Maps available for inspection at the Brecknock Township Office, 1026 Dry Tavern Road, Denver, Pennsylvania.
Send comments to Mr. Levi Hoover, Chairman of the Township of Brecknock Board of Supervisors, 1026 Dry Tavern Road, Denver, Pennsylvania 17517.
Township of Colerain
Maps available for inspection at the Colerain Township Office, 1803 Kirkwood Pike, Kirkwood, Pennsylvania.
Send comments to Mr. Walter L. Todd, Jr., Chairman of the Township of Colerain Board of Supervisors, 1803 Kirkwood Pike, Kirkwood, Pennsylvania 17536.
Township of Earl
Maps available for inspection at the Earl Township Office, 517 North Railroad Avenue, New Holland, Pennsylvania.
Send comments to Mr. Rick L. Kochel, Chairman of the Township of Earl Board of Supervisors, 517 North Railroad Avenue, New Holland, Pennsylvania 17557.
Township of East Cocalico
Maps available for inspection at the East Cocalico Township Office, 100 Hill Road, Denver, Pennsylvania.
Send comments to Mr. Douglas B. Mackley, Chairman of the Township of East Cocalico Board of Supervisors, 100 Hill Road, Denver, Pennsylvania 17517.
Township of East Hempfield
Maps available for inspection at the East Hempfield Township Office, 1700 Nissley Road, Landisville, Pennsylvania.
Send comments to Mr. George Marcinko, East Hempfield Township Manager, 1700 Nissley Road, P.O. Box 128, Landisville, Pennsylvania 17538.
Township of East Lampeter
Maps available for inspection at the East Lampeter Township Office, 2205 Old Philadelphia Pike, Lancaster, Pennsylvania.
Send comments to Mr. Glen Eberly, Chairman of the Township of East Lampeter Board of Supervisors, 2205 Old Philadelphia Pike, Lancaster, Pennsylvania 17602.
Township of Eden
Maps available for inspection at the Eden Township Office, 489 Stony Hill Road, Quarryville, Pennsylvania.
Send comments to Mr. Ellis Ferguson, Chairman of the Township of Eden Board of Supervisors, 489 Stony Hill Road, Quarryville, Pennsylvania 17566.
Township of Ephrata
Maps available for inspection at the Ephrata Township Office, 265 Akron Road, Ephrata, Pennsylvania.
Send comments to Mr. Clark R. Stauffer, Chairman of the Township of Ephrata Board of Supervisors, 265 Akron Road, Ephrata, Pennsylvania 17522-2792.
City of Lancaster
Maps available for inspection at the Lancaster City Office, 120 North Duke Street, Lancaster, Pennsylvania.
Send comments to The Honorable Charles W. Smithgall, Mayor of the City of Lancaster, 120 North Duke Street, P.O. Box 1599, Lancaster, Pennsylvania 17608-1599.
Township of Leacock
Maps available for inspection at the Leacock Township Office, 3545 West Newport Road, Intercourse, Pennsylvania.
Send comments to Mr. Frank Howe, Chairman of the Township of Leacock Board of Supervisors, 3545 West Newport Road, Intercourse, Pennsylvania 17534.
Township of Manheim
Maps available for inspection at the Manheim Township Office, 1840 Municipal Drive, Lancaster, Pennsylvania.
Send comments to Mr. James Martin, Chairman of the Township of Manheim Board of Supervisors, 1840 Municipal Drive, Lancaster, Pennsylvania 17601-4162.
Borough of Millersville
Maps available for inspection at the Millersville Borough Office, 10 Colonial Avenue, Millersville, Pennsylvania.
Send comments to Mr. Edward J. Arnold, Millersville Borough Manager, 10 Colonial Avenue, Millersville, Pennsylvania 17551.
Township of Mount Joy
Maps available for inspection at the Mount Joy Township Office, 159 Merts Drive, Elizabethtown, Pennsylvania.
Send comments to Mr. Charles W. Ricedorf, Chairman of the Township of Mount Joy Board of Supervisors, 159 Merts Drive, Elizabethtown, Pennsylvania 17022.
Township of Paradise
Maps available for inspection at the Paradise Township Office, 196 Blackhorse Road, Paradise, Pennsylvania.
Send comments to Mr. Kevin J. McClarigan, Chairman of the Township of Paradise Board of Supervisors, 196 Blackhorse Road, P.O. Box 40, Paradise, Pennsylvania 17562.
Township of Penn
Maps available for inspection at the Penn Township Office, 97 North Penryn Road, Manheim, Pennsylvania.
Send comments to Mr. Daryl J. LeFever, Chairman of the Township of Penn Board of Supervisors, 97 North Penryn Road, Manheim, Pennsylvania 17545.
Township of Pequea
Maps available for inspection at the Pequea Township Office, 1028 Millwood Road, Willow Street, Pennsylvania.
Send comments to Ms. Virginia Brady, Chairman of the Township of Pequea Board of Supervisors, 1028 Millwood Road, Willow Street, Pennsylvania 17584.
Township of Providence
Maps available for inspection at the Providence Township Office, 200 Mt. Airy Road, New Providence, Pennsylvania.
Send comments to Mr. Wayne S. Herr, Chairman of the Township of Providence Board of Supervisors, 200 Mt. Airy Road, New Providence, Pennsylvania 17560.
Township of Rapho
Maps available for inspection at the Rapho Township Office, 971 North Colebrook Road, Manheim, Pennsylvania.
Send comments to Mr. Lowell Fry, Chairman of the Township of Rapho Board of Supervisors, 971 North Colebrook Road, Manheim, Pennsylvania 17545.
Township of Upper Leacock
Maps available for inspection at the Upper Leacock Township Office, 36 Hillcrest Avenue, Leola, Pennsylvania.
Send comments to Mr. Richard P. Heilig, Chairman of the Township of Upper Leacock Board of Supervisors, 36 Hillcrest Avenue, P.O. Box 325, Leola, Pennsylvania 17540.
Township of Warwick
Maps available for inspection at the Warwick Township Office, 315 Clay Road, Lititz, Pennsylvania.
Send comments to Mr. W. Logan Myers, III, Chairman of the Township of Warwick Board of Supervisors, 315 Clay Road, P.O. Box 308, Lititz, Pennsylvania 17543.
Township of West Cocalico
Maps available for inspection at the West Cocalico Township Office, 156 B West Main Street, Reinholds, Pennsylvania.
Send comments to Mr. Jacque A. Smith, Chairman of the Township of West Cocalico Board of Supervisors, 156 B West Main Street, P.O. Box 244, Reinholds, Pennsylvania 17569.
Township of West Donegal
Maps available for inspection at the West Donegal Township Office, 1 Municipal Drive, Elizabethtown, Pennsylvania.
Send comments to Mr. Roger Snyder, Chairman of the Township of West Donegal Board of Supervisors, 1 Municipal Drive, Elizabethtown, Pennsylvania 17022.
Township of West Hempfield
Maps available for inspection at the West Hempfield Township Office, 3401 Marietta Avenue, Lancaster, Pennsylvania.
Send comments to Mr. David Dumeyer, Chairman of the Township of West Hempfield Board of Supervisors, 3401 Marietta Avenue, Lancaster, Pennsylvania 17601.
Township of West Lampeter
Maps available for inspection at the West Lampeter Township Office, 852 Village Road, Lampeter, Pennsylvania.
Send comments to Mr. James Kalenich, Chairman of the Township of West Lampeter Board of Supervisors, 852 Village Road, Box 237, Lampeter, Pennsylvania 17537-0237.

(Catalog of Federal Domestic Assistance No. 83.100, “Flood Insurance.”)
Dated: August 10, 2004.
David I. Maurstad,
Acting Director, Mitigation Division, Emergency Preparedness and Response Directorate.

[FR Doc. 04-19014 Filed 8-18-04; 8:45 am]

BILLING CODE 9110-12-P